SOCIAL SECURITY ADMINISTRATION

Privacy Act of 1974, as Amended; Computer Matching Program Social Security Administration (SSA) and Immigration and Naturalization Service (INS)

AGENCY: Social Security Administration (SSA).

ACTION: Notice of computer matching program.

SUMMARY: In accordance with the provisions of the Privacy Act, as amended, this notice announces a computer matching program that SSA plans to conduct.

DATES: SSA will file a report of the subject matching program with the Committee on Government Affairs of the Senate, the Committee on Government Reform of the House of Representatives and the Office of Information and Regulatory Affairs, Office of Management and Budget (OMB). The matching program will be effective as indicated below.

ADDRESSES: Interested parties may comment on this notice by either telefax to (410) 597-0841, or writing to the Associate Commissioner for Program Support, 2-Q-16 Operations Bldg, 6401 Security Boulevard, Baltimore, MD 21235.

All comments received will be available for public inspection at this address.

FOR FURTHER INFORMATION CONTACT: The Associate Commissioner for Program Support as shown above.

SUPPLEMENTARY INFORMATION:

A. General

The Computer Matching and Privacy Protection Act of 1998 (Pub. L. 100-503), amended the Privacy Act (5 U.S.C. 552a) by describing the manner in which computer matching involving records of Federal and State agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State or local government records. Among other things, it requires Federal agencies involved in computer matching programs to:

(1) Negotiate written agreements with the other agency or agencies participating in the matching programs;

(2) Obtain the Data Integrity Board's approval of the match agreements.

(3) Furnish detailed reports about matching programs to Congress and OMB;

(4) Notify applicants and beneficiaries that their records are subject to matching; and

(5) Verify match findings before reducing, suspending, terminating or denying an individual's benefits or payments.

B. SSA Computer Matches Subject to the Privacy Act

We have taken action to ensure that all of SSA's computer matching programs comply with the requirements of the Privacy Act, as amended.

Dated: September 28, 2001.
Glenna Donnelly,
Acting Deputy Commissioner for Disability and Income Security Programs.

Notice of Computer Matching Program, Social Security Administration (SSA) with the Immigration and Naturalization Service (INS)

Participating Agencies

SSA and INS.

Purpose of the Matching Program

The purpose of this matching program is to establish conditions under which INS agrees to the disclosure of information regarding certain aliens who may, as a result of their current and planned absences from the United States, be subject to nonpayment of benefits in programs administered by SSA. The disclosure will provide SSA with information useful in determining claim and benefit status under both title II and title XVI of the Social Security Act governing Social Security Retirement, Survivors and Disability Insurance benefits, and Supplemental Security Income, as certain persons who are outside the United States or similarly lack appropriate statutorily specified residency and citizenship/alienage status, may not be paid benefits under specific statutory provisions of those titles.

Authority for Conducting the Match:

This matching operation is carried out under the authority of sections 202(n), 1611(f), 1614(a)(1), 1631(e)(1)(B) of the Social Security Act, 42 U.S.C. 402(n), 1382(f), 1382c(a)(1), 1383(e)(1)(B), 1383(f) and 8 U.S.C. § 1611 and 1612; and section 237(a) of the Immigration and Nationality Act.

Categories of Records and Individuals Covered by The March:

INS will disclose to SSA two data files as described below:

1. Aliens Who Leave the United States Voluntarily

INS data on aliens leaving the United States voluntarily from INS's computer linked information management system will be matched with SSA's Master Files of Social Security Number Holders and SSN Applications (Numident Alpha-Index) (SSA/OSR 60 0058). SSA will next match records of persons whose SSNs are verified against SSA's SSR system, (SSA OSR 60-0103), in order to identify aliens potentially subject to suspension of SSI monthly SSI benefit payments under title XVI of the Act due to absence from the United States of 30 consecutive days or more.

2. Aliens Who Are Deported From the United States

INS will provide SSA with a file drawn from the INS Deportable Alien Control System (DACS) including the SSNs (if available) of aliens who have been deported from the United States under specified provisions as described in 202(n)(1) of the Social Security Act, and who, therefore, may be subject to nonpayment of social security benefits under title II of the Social Security Act (in some instances along with their dependents or survivors who are outside of the United States.) This deportee file will also contain records of individuals who may be ineligible for SSI benefits under title XVI of the Social Security Act as a result of their status as deportees given certain residency and/or alien citizenship requirements for eligibility regarding that title. SSA will match the records provided by INS against SSA's Master Files of Social Security Numbers and SSN Applications (SSA/OSR 60-0058); the Master Beneficiary Record (MBR) (SSA/OSR 60-0090); and the SSR (SSA/OSR 60-0103).

Inclusive Dates of the Match:

The matching agreement for this program shall become effective no sooner than 40 days after notice of the matching program is sent to Congress and the Office of Management and Budget (OMB) or 30 days after publication of this notice in the Federal Register whichever is later. The matching program will continue for 18 months from the effective date and may be extended for an additional 12 months thereafter, if certain conditions are met.

[FR Doc. 01-24990 Filed 10-4-01; 8:45 am]

BILLING CODE 4191-02-M